DEPARTMENT OF COMMERCE

National Oceanic and Atmospheric Administration

RIN 0648-XA840

Marine Mammals; File No. 16479

AGENCY: National Marine Fisheries Service (NMFS), National Oceanic and Atmospheric Administration (NOAA), Commerce.

ACTION: Notice; receipt of application for permit amendment.

SUMMARY: Notice is hereby given that The Pacific Whale Foundation [Responsible Party: Gregory Kaufman], 300 Maalaea Road, Suite 211, Wailuku, HI 96793, has requested a change in Principal Investigator to their pending permit application.

DATES: Written, telefaxed, or email comments must be received on or before May 31, 2012.

ADDRESSES: The application and related documents are available for review by selecting “Records Open for Public Comment” from the Features box on the Applications and Permits for Protected Species (APPS) home page, https://apps.nmfs.noaa.gov, and then selecting File No. 16479 from the list of available applications.

These documents are also available upon written request or by appointment in the following offices:

Permits and Conservation Division, Office of Protected Resources, NMFS, 1315 East-West Highway, Room 13705, Silver Spring, MD 20910; phone (301) 427-8401; fax (301) 713-0376; and

Pacific Islands Region, NMFS, 1601 Kapiolani Blvd., Rm. 1110, Honolulu, HI 96814-4700; phone (808) 944-2200; fax (808) 973-2941.

Written comments on these applications should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Laura Morse or Joselyd Garcia-Reyes, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

On November 23, 2011, a notice was published in the Federal Register (76 FR 72389) that a request for a permit to conduct research on marine mammals had been submitted by the above-named applicant. The Pacific Whale Foundation proposes to conduct vessel based research on humpback whales in Maui County waters, Hawaii to quantify the potential for near misses between vessels and humpback whales, and define the probability of `surprise encounters' with humpback whales in relation to time of day, environmental variables, vessel behavior, whale abundance, and individual sex and age classes. Up to 567 humpback whales may be approached annually for photo-identification and behavioral observation and all Hawaiian insular false killer whales (Pseudorca crassidens) may be incidentally harassed by the research activities.

Under the pending permit application, The Pacific Whale Foundation is requesting a change in Principal Investigator (PI) due to personnel changes within their organization. They request to have Gregory Kaufman be designated as the new PI. No other changes to the permit application are requested.

Dated: April 25, 2012.
Tammy C. Adams,
Acting Chief, Permits and Conservation Division, Office of Protected Resources, National Marine Fisheries Service.

[FR Doc. 2012-10492 Filed 4-30-12; 8:45 am]

BILLING CODE 3510-22-P